FEDERAL COMMUNICATIONS COMMISSION

Notice of Public Information Collection(s) Being Reviewed by the Federal Communications Commission

March 28, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 5, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0400.

Title: Tariff Review Plan.

Form No.: N/A.

Type of Review: Revision of a currently approved collection.

Respondents: Business or other for-profit.

Number of Respondents: 45.

Estimated Time Per Response: 61 hours.

Frequency of Response: On occasion reporting, biennial and annual requirements.

Total Annual Burden: 2,745.

Total Annual Cost: N/A.

Needs and Uses: Local telephone companies are required to update their rates annually or biennially to reflect Federal Communications Commission (FCC) requirements. To reduce the regulatory burden on reporting Local Exchange Carriers (LECs) as well as reviewers, the Commission developed tariff review plans (TRPs). The TRPs set for the summary material that LECs must file to support revisions to the rates in their interstate access service rates. The TRPs display basic data on rate development in a consistent manner, thereby facilitating review of the LEC rate revisions by the Commission and interested parties.

As of August 1999, there were 151 tariff filing entities. Of these, there were 16 Class A LECs with regulated state and interstate telecommunications revenues of $100 million or more. These LECs file pursuant to price cap regulations under 47 CFR 61.43 of the Commission's rules. There were 29 LECs filing pursuant to rate of return regulation under 47 CFR 61.38 of the Commission's rules. One hundred and six (106) LECs with revenues less than $50 million file pursuant to 47 CFR 61.39 of the Commission's rules and are not required to submit a TRP. Thus, the number of filing entities is 45.

As stated above, the largest LECs, those with regulated state and interstate telecommunications revenue of $100 million or greater per year (Class A LECs), file pursuant to price cap regulation under § 61.43. This regulation was implemented in 1990 and has dramatically reduced the reporting burden of these companies, from a TRP of 173 pages to a TRP of 36 pages. The 29 LECs that file pursuant to § 61.38 file a TRP of 29 pages, which also represents a reduction in reporting burden compared to earlier years.

The TRP material is used by FCC staff to determine whether the access charges are just and reasonable as required by the Communications Act. If the information were not filed, the FCC would not be able to carry out its responsibility as required by the Act.

Federal Communications Commission.
Magalie Roman Salas,
Secretary.

[FR Doc. 00-8366 Filed 4-4-00; 8:45 am]

BILLING CODE 6712-01-M